DEPARTMENT OF HOUSING AND URBAN DEVELOPMENT

[Docket No. FR-5233-N-01]

Notice of Funding Availability for Fiscal Year (FY) 2008 Family Unification Program (FUP)

AGENCY: Office of the Assistant Secretary for Public and Indian Housing, HUD.

ACTION: Notice of Funding Availability (NOFA).

SUMMARY: This Notice of Funding Availability (NOFA) announces the availability of approximately $20 million for incremental voucher assistance to provide adequate housing as a means to promote family unification through the FUP. This NOFA is governed by the information and instructions found in the Notice of HUD's FY2008 Notice of Funding Availability; Policy Requirements and General Section (General Section) to HUD's FY2008 NOFAS for Discretionary Programs that HUD published in the Federal Register on March 19, 2008 (73 FR 14882), the SuperNOFA Introduction published on May 12, 2008 (73 FR 27032), and the correction published on June 12, 2008 (73 FR 33446).

FOR FURTHER INFORMATION CONTACT: Questions regarding specific program requirements should be directed to the agency contact identified in this program NOFA. Questions regarding the March 10, 2008 (73 FR 12751), Notice of FY2008 Opportunity to Register Early and Other Important Information for Electronic Application Submission Via Grants.gov, the General Section of March 19, 2008, the SuperNOFA Introduction of May 12, 2008, or the correction of June 12, 2008, should be directed to the Office of Departmental Grants Management and Oversight at (202) 708-0667 (this is not a toll-free number) or the NOFA Information Center at (800) HUD-8929 (toll-free). Persons with hearing or speech impairments may access these numbers via TTY by calling the Federal Information Relay Service at (800) 877-8339. The NOFA Information Center is open between the hours of 10:00 a.m. and 6:30 p.m. eastern time, Monday through Friday, except federal holidays.

Overview Information

A. Federal Agency Name: Office of Public and Indian Housing, Office of Public Housing and Voucher Programs, HUD.

B. Funding Opportunity Title: Family Unification Program (FUP).

C. Announcement Type: Initial Announcement.

D. Funding Opportunity Number: The Federal Register number for this NOFA is FR-5233-N-01. The Office of Management and Budget (OMB) paperwork approval number is pending.

E. Catalog of Federal Domestic Assistance (CFDA) Number: 14.880, Family Unification Program.

F. Application Deadline: The application deadline date is January 28, 2009. Applications must be received and validated by Grants.gov by the deadline date. Validation may take up to 72 hours. Please see section I.V.C of the FY 2008 General Section published March 19, 2008 (73 FR 14882), for electronic submission and receipt requirements.

G. Additional Information: The purpose of the FUP is to promote family unification by providing Housing Choice Vouchers (HCVs) to families for whom the lack of adequate housing is a primary factor in the separation, or the threat of imminent separation, of children from their families and to youths 18 to 21 years old who left foster care at age 16 or older and lack adequate housing.

Public Housing Agencies (PHAs) interested in applying for funding under this announcement should carefully review the FY 2008 General Section published March 19, 2008 (73 FR 14882): The URL for the HUD FY 2008 General Section is http://www.hud.gov/utilities/intercept.cfm?/offices/adm/grants/nofa08/gensec.pdf.

Full Text of Announcement

I. Funding Opportunity Description

A. Authority and Program Description: FUP is authorized by section 8(x) of the United States Housing Act of 1937 {42 U.S.C. 1437(X)}. Title II of Division K of the Consolidated Appropriations Act, 2008 (Pub. L. 110-161, December 26, 2008), provided $20 million for incremental voucher assistance through the FUP.

FUP is a program under which vouchers are provided to families for whom the lack of adequate housing is a primary factor in the imminent placement of the family's child, or children, in out-of-home care; or the delay in the discharge of the child, or children, to the family from out-of-home care. Youths at least 18 years old and not more than 21 years old (have not reached 22nd birthday) who left foster care at age 16 or older and who do not have adequate housing are also eligible to receive housing assistance under the FUP. A FUP voucher issued to such a youth may only be used to provide housing assistance for the youth for a maximum of 18 months.

Vouchers awarded under the FUP are administered by PHAs under HUD's regulations for the HCV program (24 CFR part 982). Further, PHAs must modify their selection preference system to permit the selection of FUP-eligible families and/or FUP-eligible youths to which the PHA intends to issue FUP vouchers with available funding provided by HUD for this purpose. Additionally, funding under this NOFA may only be used to provide tenant-based housing assistance, as prescribed by section 8(x) of the U.S. Housing Act of 1937, so as to allow FUP-eligible families and youths a choice in their selection of decent, safe, and affordable units on the private market.

B. Definitions: The following definitions apply to the funding authority available under this funding announcement.

1. The terms “FUP-eligible family” and “FUP-eligible youth”

a. Are defined as:

(1) A FUP-eligible family is a family that the public child welfare agency (PCWA) has certified as a family for whom the lack of adequate housing is a primary factor in the imminent placement of the family's child, or children, in out-of-home care, or in the delay of discharge of a child, or children, to the family from out-of-home care, and that the PHA has determined is eligible for a HCV.

(2) A FUP-eligible youth is a youth that the PCWA has certified to be at least 18 years old and not more than 21 years old (has not reached his/her 22nd birthday) who left foster care at age 16 or older and who does not have adequate housing, and that the PHA has determined is eligible for a HCV.

2. Lack of Adequate Housing

a. The lack of adequate housing means:

(1) A family or youth is living in substandard or dilapidated housing; or

(2) A family or youth is homeless; or

(3) A family or youth is displaced by domestic violence; or

(4) A family or youth is living in an overcrowded unit; or

(5) A family or youth is living in housing not accessible to its disabled child or children due to the nature of the disability.

3. Substandard Housing

a. A family or youth is living in substandard housing if the unit where the family or youth lives:

(1) Is dilapidated;

(2) Does not have operable indoor plumbing;

(3) Does not have a usable flush toilet inside the unit for the exclusive use of a family or youth;

(4) Does not have a usable bathtub or shower inside the unit for the exclusive use of a family or youth;

(5) Does not have electricity, or has inadequate or unsafe electrical service;

(6) Does not have a safe or adequate source of heat;

(7) Should, but does not, have a kitchen; or

(8) Has been declared unfit for habitation by an agency or unit of government.

4. Dilapidated Housing

a. Dilapidated housing means:

(1) A family or youth is living in a housing unit that is dilapidated if the unit where the family or youth lives does not provide safe and adequate shelter, and in its present condition endangers the health, safety, or well-being of a family or youth, or the unit has one or more critical defects, or a combination of intermediate defects in sufficient number or extent to require considerable repair or rebuilding. The defects may result from original construction, from continued neglect or lack of repair or from serious damage to the structure.

5. Homeless

a. A homeless family includes any person (including a youth) or family that:

(1) Lacks a fixed, regular, and adequate nighttime residence; and

(2) Has a primary nighttime residence that is:

(a) A supervised publicly or privately operated shelter designed to provide temporary living accommodations (including welfare hotels, congregate shelters, and transitional housing);

(b) An institution that provides a temporary residence for persons intended to be institutionalized; or

(c) A public or private place not designed for, or ordinarily used as, a regular sleeping accommodation for human beings.

6. Displaced by Domestic Violence

a. A family or youth is displaced by domestic violence if:

(1) The applicant has vacated a housing unit because of domestic violence; or

(2) The applicant lives in a housing unit with a person who engages in domestic violence.

(3) “Domestic violence” means felony or misdemeanor crimes of violence committed by a current or former spouse of the victim, by a person with whom the victim shares a child in common, by a person who is cohabitating with or has cohabitated with the victim as a spouse, by a person similarly situated to a spouse of the victim under the domestic or family violence laws of the jurisdiction receiving grant monies, or by any other person against an adult or youth victim who is protected from that person's acts under the domestic or family violence laws of the jurisdiction.

7. Living in Overcrowded Housing

a. A family or youth is considered to be living in an overcrowded unit if it meets the following separate criteria for a family or youth as follows:

(1) The family is separated from its child (or children) and the parent(s) are living in an otherwise standard housing unit, but, after the family is re-united, the parents' housing unit would be overcrowded for the entire family and would be considered substandard; or

(2) The family is living with its child (or children) in a unit that is overcrowded for the entire family and this overcrowded condition may result in the imminent placement of its child (or children) in out-of-home care.

(3) The youth is living in a unit that is overcrowded.

For purposes of the above paragraph, the PHA may determine whether the unit is “overcrowded” in accordance with PHA subsidy standards.

8. Detained Family Member

a. FUP-eligible family or FUP-eligible youth's family may not include:

(1) Person imprisoned or otherwise detained pursuant to an Act of the Congress or a State law.

9. Public Child Welfare Agency (PCWA)

a. The PCWA means:

(1) The public agency that is responsible under applicable State law for determining that a child is at imminent risk of placement in out-of-home care or that a child in out-of-home care under the supervision of the public agency may be returned to his or her family, or that a youth left foster care at age 16 or older and is at least 18 years old and not more than 21 years old.

II. Award Information

A. Available Funds: This NOFA announces the availability of $20 million for applications for the FY 2008 FUP which will provide voucher assistance to approximately 2,840 FUP eligible families and youths. The $20 million will be used to fund applications submitted by PHA's for HCVs to be issued to families for whom the lack of adequate housing is a primary factor in the separation, or the threat of imminent separation, of children from their families; and/or youths 18 to 21 years old who left foster care at age 16 or older and who lack adequate housing.

B. Maximum Voucher Request: The total number of vouchers that a PHA may apply for will be based upon the size of the PHA. PHAs with a HCV program of 2000 or more units under an ACC may apply for funding that will support approximately 100 units. PHAs with a HCV program of 500 units to 1999 units may apply for funding that will support approximately 50 units. PHAs with a HCV program of less than 500 units under an ACC may apply for funding that will support approximately 25 units.

C. Lottery: If more approvable applications are submitted in FY 2008 than funding available under this NOFA, a national lottery will be conducted to select approvable applications. See section V.B. of this NOFA regarding the lottery procedures to be followed.

D. Unfunded Approvable Applications: PHAs with approvable applications that are not funded, in whole or in part, due to insufficient funds available under this FUP NOFA or HUD error, shall be funded first in FY 2009 provided HUD receives additional appropriations for the FUP in FY 2009.

III. Eligibility Information

A. Eligible Applicants: PHAs are the eligible applicants and may submit only one application under this NOFA. This one application per PHA limit applies regardless of whether the PHA is a State or regional PHA, except in those instances where such a PHA has more than one PHA code number due to its operating under the jurisdiction of more than one HUD Field Office. In such instance, a separate application under each code shall be considered for funding with the cumulative total of vouchers applied for under the applications not to exceed the maximum number of vouchers the PHA is eligible to apply for under section II.B. of this NOFA; i.e., no more than the number of vouchers the same PHA would be eligible to apply for if it had only one PHA code number. Please note that a contract administrator that does not have an annual contributions contract (ACC) with HUD for HCVs, but constitutes a PHA under 24 CFR 791.102 by reason of its administering HCVs on behalf of another PHA, shall not be eligible to submit an application under this NOFA.

B. Cost Sharing or Matching: None required.

C. Other

1. Threshold Requirements.

a. All applicants must meet the threshold requirements under Section III.C. of the FY 2008 General Section with the following exceptions:

(1) Section III.C.2.d. (Conducting Business in Accordance with Core Values and Ethical Standards). To reflect core values, all applicant PHAs shall develop and maintain a written code of conduct in the PHA's administrative plan that: (a) Requires compliance with the conflict of interest requirements of the HCV program cited in 24 CFR 982.161; and (b) Prohibits the solicitation or acceptance of gifts or gratuities in excess of a nominal value by an officer or employee of the PHA or any contractor, subcontractor, or agent of the PHA. The PHA's administrative plan shall state the PHA's policies concerning PHA administrative and disciplinary remedies for violation of the PHA's code of conduct. The PHA shall inform all officers, employees and agents of its organization, of the PHA's code of conduct.

(2) Section III.C.4.b. (1) through (3) (Specific Steps to Affirmatively Furthering Fair Housing). The PHA must comply with Section III.C.4.b. of the General Section; the exceptions only apply to providing specific steps in the application. In addition, prior to the application due date under this NOFA, each applicant must submit to the public housing director in the applicant's local HUD field office an addendum to the applicant's HCV administrative plan that outlines reasonable steps the applicant will take to affirmatively further fair housing in regards to the vouchers awarded under this NOFA. Reasonable steps must include:

(a) Identifying and ensuring certification of FUP eligible families and youth that may be on the PHA's waiting list and ensuring that the family or youth maintain their original position on the waiting list after certification.

(b) Appropriately placing all FUP eligible families and youth referred from the PCWA on the HCV waiting list in order of first come, first served.

(c) Informing applicants on how to file a fair housing complaint including the provision of the toll free number for the Housing Discrimination Hotline: 1-800-669-9777.

Further, an applicant must comply with the affirmatively furthering fair housing requirements of 24 CFR Section 903.7(o) by: (1) Examining its programs or proposed programs; (2) identifying any impediments to fair housing choice within those programs; (3) addressing those impediments in a reasonable fashion in view of the resources available; (4) working with local jurisdictions to implement any of the jurisdiction's initiatives to affirmatively further fair housing that require the PHA's involvement; and (5) maintaining records reflecting these analyses and actions. Further, applicant PHAs are encouraged to take the following proactive steps in addressing accessibility problems for persons with disabilities: (1) Where requested by an individual, assist program applicants and participants to gain access to supportive services available within the community, but not require eligible applicants or participants to accept supportive services as a condition of continued participation in the program; (2) Identify public and private funding sources to assist participants with disabilities in covering the costs of structural alterations and other accessibility features that are needed as accommodations for their disabilities; (3) Not deny persons who qualify for a HCV under this program other housing opportunities, or otherwise restrict access to PHA programs to eligible applicants who choose not to participate; (4) Provide housing search assistance; (5) In accordance with rent reasonableness requirements, approve higher rents to owners that provide accessible units with structural modifications for persons with disabilities; and (6) Provide technical assistance, through referrals to local fair housing and equal opportunity offices, to owners interested in making reasonable accommodations or units accessible to persons with disabilities.

b. The PHA must not have any major unresolved program management findings from an Inspector General's audit, HUD management review or Independent Public Accountant (IPA) audit for the PHA's HCV program or other significant program compliance problems that were not resolved prior to this NOFA's application deadline. Major program management findings, or significant program compliance problems, are those that would cast doubt on the capacity of the applicant to effectively administer any new HCV funding in accordance with applicable HUD regulatory and statutory requirements.

c. The PHA must not be involved in litigation where HUD determines that the litigation may seriously impede the ability of the applicant to administer the vouchers.

d. Program Threshold Requirements. To be eligible for funding in response to this NOFA, the applicant must meet the following program threshold requirements and receive at least 50 points of the maximum 100 total points that could be received for Threshold Criterion 2, Efforts of PHA to Provide Area-Wide Housing Opportunities for Families.

(1) Threshold Criterion 1: Unmet Housing Needs.

(a) This criterion requires the PHA to demonstrate the need for an equal or greater number of HCVs than it is requesting under this NOFA. The PHA must assess and document the unmet housing need for its geographic jurisdiction of:

(i) Families for whom the lack of adequate housing is a primary factor in the imminent placement of the family's child or children in out-of-home care, or in a delay of discharge of a child or children to the family from out-of-home care, and/or;

(ii) Youths at least 18 years old and not more than 21 years old (have not reached his/her 22nd birthday) who left foster care at age 16 or older and who do not have adequate housing. The results of the assessment must include a comparison of the estimated unmet housing needs of such families and youths to the Consolidated Plan covering the PHA's jurisdiction. The demonstration of need and comparison to the Consolidated Plan should be based on those FUP-eligible families, and/or FUP-eligible youths that the PHA is basing its voucher request upon and to which it intends to issue FUP vouchers.

(2) Threshold Criterion 2: Efforts of PHA To Provide Area-Wide Housing Opportunities for Families (100 points). Many PHAs have undertaken voluntary efforts to provide area-wide housing opportunities for families. The efforts described in response to this criterion must be beyond those required by federal law or regulation such as the portability provisions of the HCV program. (See section V.A. of this NOFA for points assigned for this Threshold Criterion).

(3) Threshold Criterion 3: Memorandum of Understanding (Mou) Coordination Between PHA and Public Child Welfare Agency To Identify and Assist FUP-Eligible Families and FUP-Eligible Youths.

The application must include an MOU, executed by the chief executive officer of the PHA and the PCWA, identifying the actions that the PHA and the PCWA will take to identify and assist FUP-eligible families and/or FUP-eligible youths, and the resources that each organization will commit to the FUP.

(a) The MOU must clearly address, at a minimum, the following:

(i) PHA responsibilities as outlined in section VI.B.3. of this NOFA.

(ii) PCWA responsibilities as outlined in section VI.B.4. of this NOFA.

(iii) The assistance the PCWA will provide to families and youths, as appropriate, in locating housing units and working with landlords to secure appropriate eligible units.

(iv) The PCWA's past experience in administering a similar program.

(v) Past PCWA and PHA cooperation in administering a similar program.

(vi) If the PHA intends to issue FUP vouchers to FUP-eligible youths, the services to be provided to such youths by the PCWA, or by another agency/organization under agreement/contract to the PCWA to provide the services, which at a minimum must include the following for a period of not less than the 18 months a FUP-eligible youth is receiving rental assistance through the use of a FUP voucher.

(A) Basic life skills information/counseling on money management, use of credit, housekeeping, proper nutrition/meal preparation; and access to health care (e.g., doctors, medication, and mental and behavioral health services).

(B) Counseling on compliance with rental lease requirements and with HCV program participant requirements, including assistance/referrals for assistance on security deposits, utility hook-up fees, and utility deposits.

(C) Providing such assurances to owners of rental property as are reasonable and necessary to assist a FUP-eligible youth to rent a unit with a FUP voucher.

(D) Job preparation and attainment counseling (where to look/how to apply, dress, grooming, relationships with supervisory personnel, etc.).

(E) Educational and career advancement counseling regarding attainment of general equivalency diploma (GED); attendance/financing of education at technical school, trade school or college; including successful work ethic and attitude models.

(F) Participation of FUP-eligible youths in the assessment and implementation of actions to address their needs, including the development of an individual case plan on each youth for services to be received and the youth's commitment to the plan (youth required to sign a service plan agreeing to attend counseling/training sessions and to take other actions as deemed appropriate to the youth's successful transition from foster care.

The MOU shall be considered by HUD and the signatories (the PCWA and the PHA) as a complete statement of the responsibilities of both parties and evidence a commitment of resources to the FUP. As such, the document should be very specific. For instance, the PCWA must clearly indicate the amount of time and staff resources the PCWA will commit on a continuing basis to identifying the FUP-eligible families and/or FUP-eligible youths to which FUP vouchers are intended to be issued; the length of time it will provide follow-up support services to these FUP-eligible families and/or FUP-eligible youths after they receive their vouchers; etc. A MOU that does not contain the information required in this Threshold Criterion 3 will be deemed unacceptable and thereby the PHA's application for the FUP shall be determined to be unacceptable for funding.

(4) Threshold Criterion 4: Public Child Welfare Agency Statement of Need for Family Unification Program.

The application must include a statement by the PCWA describing the need in the area to be served for a program providing assistance to families for whom lack of adequate housing is a primary factor in the placement of the family's children in out-of-home care or in the delay of discharge of the children to the family from out-of-home care, and/or youths age 18 to 21 who left foster care at age 16 or older and who lack adequate housing, as evidenced by the caseload of the PCWA. The PCWA must adequately demonstrate that there is a need in the PHA's jurisdiction for the FUP that is not being met through existing programs by indicating the number of FUP-eligible families who currently have children in danger of being placed in out-of-home care or who cannot be returned from out-of-home care due to inadequate housing, and/or the number of youths at least 18 years old but not more than 21 years old (have not yet reached their 22nd birthday) who left foster care at age 16 or older and who do not have adequate housing. The narrative must include specific information relevant to the area to be served, about homelessness, family violence resulting in involuntary displacement, number and characteristics of families who are experiencing the placement of children in out-of-home care or the delayed discharge of children from out-of-home care as the result of inadequate housing, and/or the number and characteristics of youths age 18 through 21 released from foster care at age 16 or older who do not have adequate housing, and the PCWA's past experience in obtaining housing through HUD assisted programs and other sources for families and youths lacking adequate housing. The PCWA's statement of need should be based solely on those types of eligible FUP voucher participants; i.e., FUP-eligible families and/or FUP-eligible youths to which the PHA may issue FUP vouchers.

d. Each applicant must meet the PIC reporting requirements under PIH Notice 2007-29 (HA) that will be assessed for the month immediately preceding the month in which the applications under this NOFA are due. This threshold requirement will not apply to MTW agencies.

e. Each applicant must have achieved points (15 or 20) under the Section 8 Management Assessment Program (SEMAP) leasing indicator (24 CFR Section 985.3(n)) and not be designated as troubled for its most recent assessed fiscal year. MTW agencies that are not required to report under SEMAP shall be held to the 95 percent lease-up and budget authority utilization requirements referenced above. These MTW agencies are required to submit a certification with their application certifying that they are not required to report under SEMAP, and that they meet the 95 percent lease-up or budget authority utilization requirements.

f. Each applicant must have their PHA plans approved for its current FY by the submission date of this NOFA.

g. The PHA applicant must not have any major unresolved program management findings from an Inspector General Audit, HUD management review or Independent Public Accountant (IPA) audit for the PHA's HCV program or other significant program compliance problems that were not resolved prior to this NOFA's application deadline. Major program management findings, or significant program compliance problems, are those that would cast doubt on the capacity of the applicant to effectively administer any new HCV funding in accordance with applicable HUD regulatory and statutory requirements.

h. The PHA must not be involved in litigation where HUD determines that the litigation may seriously impede the ability of the applicant to administer the vouchers.

IV. Application and Submission Information

A. Address to Request Application Package. Applicants may download the instructions to the application found on the Grants.gov Web site at http://www.Grants.gov./applicants/apply_for_grants.jsp. If you have difficulty accessing the information you may call the Grants.gov Support Desk toll free at 1-800-518-GRANTS or e-mail your questions to Support@Grants.gov. See the General Section for information regarding the registration process or ask for registration information from the Grants.gov Support Desk.

B. Content and Form of Application Submission

Applicants submitting electronic copies should follow the procedures in Sections IV.B. and F. of the General Section. The following list is provided as a guide to help ensure that you submit all the required elements of the application. All applicants should enter the applicant name, DUNS number, and page numbers on the narrative pages of the application. All forms are available when you download the application and instructions from http://www.grants.gov/applicants/apply_for_grants.jsphttps://apply.grants.gov/forms_apps_idx.html.

1. SF-424, Application for Federal Assistance.

2. SF-LLL, Disclosure of Lobbying Activities.

3. HUD-2880, Applicant/Recipient Disclosure/Update Report (“HUD Applicant Recipient Disclosure Report” on Grants.gov).

4. Form HUD-52515-Funding Application, must be completed and submitted. This form includes all the necessary certifications for Fair Housing, Drug-Free Workplace and Lobbying Activities. PHAs are requested to enter their housing authority code number (for example, CT002) as well as their electronic mail address, telephone number, and facsimile telephone number in the same place at the top of the form where they are also to enter the PHA's name and mailing address. Section C of the form should be left blank. PHAs may obtain a copy of form HUD-52515 by downloading the form from the following HUD Web site: http://www.hud.gov/offices/adm/hudclips/forms/index.cfm. In addition, the form HUD-52515 will also be posted with the FUP NOFA at the following HUD Web site: www.hud.gov/offices/adm/grants/otherhud.cfm. The form must be completed in its entirety, with the exception of Section C, signed and dated.

5. Letter of Intent and Narrative. Funding is limited, and HUD may only have enough funds to approve a smaller amount than the number of vouchers requested. The PHA must state in its cover letter the number of vouchers it is requesting and the minimum number of vouchers it will accept if selected under a lottery system. The cover letter must also include a statement by the PHA certifying that the PHA has consulted with the agency or agencies in the State responsible for the administration of welfare reform to provide for the successful implementation of the State's welfare reform for families and youths receiving rental assistance under the FUP. The application must also include an explanation of how the applicant meets the requirements for Threshold Criterion 1 through 4 in section III.C.1.b. of this NOFA. The PCWA serving the jurisdiction of the PHA is responsible for providing the information for Threshold Criteria 4, to the PHA for submission with its application. This should include a discussion (as appropriate to whether the PHA intends to issue FUP voucher to eligible families and/or youths) of the case-load of the PCWA and information about homelessness, family violence resulting in involuntary displacement, number and characteristics for families who are experiencing the placement of children in out-of-home care or the delayed discharge of children from out-of-home care as a result of inadequate housing, the number and characteristics of youths age 18 to 21 years old who left foster care at age 16 or older and who lack adequate housing, and the PCWA's experience in obtaining housing through HUD assisted housing programs and other sources for families and youths lacking adequate housing. A State-wide PCWA must provide information on Threshold Criteria 4 to all PHAs that request such information; otherwise, HUD will not consider applications from any PHA with the State-wide PCWA as a participant in its program.

6. Evaluation Certifications. The PHA and the PCWA, in separate certifications, must state that the PHA and PCWA agree to cooperate with HUD and provide requested data to the HUD office or HUD-approved contractor delegated the responsibility for the program evaluation. No specific language for this certification is prescribed by HUD.

7. Form HUD-2993. All PHAs must complete and submit form HUD-2993, Acknowledgement of Application Receipt. In addition to the PHA entering its name and address on the form, the full title of the program under which the PHA is seeking funding must also be entered. This form is available at the following HUD Web site: http://www.hud.gov/offices/adm/hudclips/forms/index.cfm. In addition the form HUD-2993 will also be posted with the FUP NOFA at the following HUD Web site: www.hud.gov/offices/adm/grants/otherhud.cfm.

8. Form HUD-2994-A. You Are Our Client! Grant Applicant Survey, Optional.

9. Form HUD-96011. Third Party Documentation Facsimile Transmittal (“Facsimile Transmittal Form” on Grants.gov). Used as the cover page to transmit third party documents and other information designed for each specific application for tracking purposes. HUD will not be able to match faxes to an application if the application does not contain the HUD-96011 fax cover page, and each fax submitted does not use the HUD-96011 as the cover page to the facsimile transmission.

C. Submission Dates and Times: Your completed application must be received and validated electronically by Grants.gov no later than 11:59:59 p.m. Eastern time on the deadline date. The validation process can take 24-48 hours following receipt of the application by Grants.gov. Applicants are advised to submit the application 72 hours prior to the deadline date so that if the application is rejected by Grants.gov, the applicant has enough time to correct the noted problem and resubmit the application in time to meet the deadline requirements. (See General Section for further information on the Grants.gov validation process.)

HUD has found that the most common error made by grantees which causes their application to fail validation is that the applicant ID and password do not match the DUNS number under which they are applying, or the applicant is not authorized by the organization to submit the application on behalf of the organization. Please make sure when submitting your application that you are using the correct DUNS number, user ID and password, that you have registered at Grants.gov and that you have been authorized by the organization to submit the application on behalf of the applicant. To check your registration status, follow the directions provided in the General Section.

D. Intergovernmental Review: Intergovernmental review is not applicable to this program.

E. Funding Restrictions:

2. Voucher Funding. HUD's Housing Voucher Financial Management Division will determine the amount of funding that a PHA will be awarded under this NOFA based upon the PHA's per unit cost for FY 2008 renewal funding or 2009 renewal funding if those costs are available. Administrative fees are not included in this funding and will be determined in accordance with section 10 of the Public and Indian Housing (PIH) Notice 2008-15 (HA) or a subsequent administrative fee notice (a copy of all PIH notices referenced in the NOFA may be downloaded at http://www.hudclip.org). PIH Moving to Work (MTW) agencies will be funded under this NOFA in accordance with their MTW agreements.

F. Other Submission Requirements

1. Application Submission and Receipt Procedures. The General Section describes application submission procedures and how applicants may obtain proof of timely submission.

2. Waiver of Electronic Submission Requirements. Applicants interested in applying for funding under this NOFA must submit their applications electronically via Grants.gov or request a waiver from the electronic submission requirement. Applicants should submit their waiver request in writing using e-mail. Waiver requests must be submitted no later than 15 days prior to the application deadline date and should be submitted to Danielle.L.Bastarache@hud.gov and Stephanie.Y.McQueen@hud.gov. If an applicant is granted a waiver, the approval will provide instructions for submitting paper copies to the appropriate HUD office. All paper applications must be received by the application deadline to meet the requirements for timely submission.

3. Acceptable Applications. An acceptable application is one which meets all of the application submission requirements in Section IV.B. of the NOFA and does not fall into any of the categories listed in section V.B.3. of this NOFA. The Grants Management Center (GMC) will initially screen all applications and notify PHAs of technical deficiencies by letter.

V. Application Review Information

A. Criteria

HUD's GMC is responsible for rating the applications under the selection criteria in this NOFA, and is responsible for the selection of FY 2008 applications that will receive consideration for assistance under the FUP.

1. Rating and Assessment for Threshold Criteria 2. Many PHAs have undertaken voluntary efforts to provide area-wide housing opportunities for families. The efforts described in response to this criterion must be beyond those required by federal law or regulation such as the portability provisions of the HCV program. The GMC will assign 25 points for any of the following assessments and add the points for all the assessments to determine the total points for this criterion.

a. Assign 25 points if the PHA documents that PHA staff will provide housing counseling for families that want to move to low-poverty or non-minority areas, or if the PHA has established a contractual relationship with a nonprofit agency or a local governmental entity to provide housing counseling for families that want to move to low-poverty or non-minority areas.

b. Assign 25 points if the PHA documents that it participates with other PHAs in using a metropolitan wide or combined waiting list for selecting participants for the HCV program.

c. Assign 25 points if the PHA documents that it has implemented other initiatives that have resulted in expanding housing opportunities in areas that do not have undue concentrations of poverty or minority families.

d. Assign 25 points if the PHA is using HCVs (not part of a previously. HUD-approved FUP) to create a FUP like program or to expand upon its existing FUP.

B. Review and Selection Process

1. GMC Screening. After the GMC has screened all applications and disapproved any applications unacceptable for further processing, the GMC will review and rate all approvable applications.

All FY 2008 applications identified by the GMC as meeting the requirement of this NOFA, will be eligible for the lottery selection process. The GMC will select eligible PHAs to be funded based on a lottery in an event the cost of funding all approvable applications exceeds funding made available under this NOFA.

HUD may limit the number of FY 2008 approvable applications selected for any State to no more than 10 percent of the budget authority made available under this NOFA in order to achieve geographic diversity. If establishing this geographic limit results in unspent budget authority, HUD may modify this limit to assure that all available funds are used.

Applications will be funded in full for the number of vouchers requested by the PHA in accordance with the NOFA. If the remaining voucher funds are insufficient to fund the last PHA application in full, the GMC may recommend funding that application to the extent of the funding available and the applicant's willingness to accept a reduced number of vouchers. Applicants that do not wish to have the size of their programs reduced may indicate in their application that they do not wish to be considered for a reduced award of funds. The GMC will skip over these applicants if assigning the remaining funding would result in a reduced funding level.

2. Technical Deficiencies. The General Section provides the procedures for corrections to deficient applications. Please note that clarifications for corrections of technical deficiencies in accordance with the information provided by HUD to the applicant must be submitted within 14 calendar days of receipt of the date of the HUD notification.

3. Unacceptable Applications. After the 14-day technical deficiency correction period, the GMC will disapprove all PHA applications that the GMC determines are not acceptable for processing. The GMC's notification of rejection will state the basis for the decision which may include one of the following:

a. Any PHA application that does not meet the threshold requirements of the General Section and/or this NOFA.

b. A PHA's application that does not comply with the requirements of 24 CFR 982.102 and the requirements of this NOFA after the expiration of the 14-calendar day technical deficiency correction period.

c. The PHA's application was submitted after the application deadline date.

C. Anticipated Announcement and Award Dates: It is anticipated that award announcements will take place during either the month of June or July, 2009.

VI. Award Administration Information

A. Award Notices: Successful applicants will receive an award letter from HUD. Funding will be provided to successful applicants as an amendment to the ACC of the applicant PHA.

Unsuccessful applicants will receive a notification of rejection letter from the GMC that will state the basis for the decision. For a period of at least 120 days, beginning 30 days after the awards for assistance are publicly announced, HUD will provide to a requesting applicant a debriefing related to its application. (See the General Section for additional information regarding debriefing). Applicants requesting to be debriefed must send the written request to: Keia Neal, Acting Director, GMC, U.S. Department of Housing and Urban Development, 501 School Street, SW., Suite 800, Washington, DC 20024.

B. Administrative and National Policy Requirements

1. HCV Program Regulations. Applicants must administer the Family Unification Program in accordance with HUD's regulations governing the HCV Program (24 CFR 982). MTW agencies may administer these vouchers in accordance with their MTW agreements unless they are inconsistent with Appropriations Act requirements or the requirements of this NOFA.

2. Turnover. If a voucher issued to a FUP-eligible family or FUP-eligible youth under this program is terminated, the voucher must be reissued to the extent practicable, to either another FUP-eligible family or FUP-eligible youth. If the award on turnover to FUP eligible families or youth is not practicable, FUP vouchers may be used by PHAs for such families and youths based upon local needs and consistent with the PHA's administrative plan and MOU.

A FUP voucher issued to a youth age 18 to 21 may not be used to provide housing assistance for that youth for a period of more than 18 months, as per the statutory requirements of Section 8(x)(2) of the U.S. Housing Act of 1937, as amended.

3. PHA Responsibilities.

a. Accept families and youths certified by the PCWA as eligible for the FUP. The PHA, upon receipt of the PCWA list of families and youths currently in the PCWA caseload, must compare the names with those of families and youths already on the PHA's HCV waiting list. Any family or youth on the PHA's HCV waiting list that matches with the PCWA's list must be assisted in order of their position on the waiting list in accordance with PHA admission policies. Any family or youth certified by the PCWA as eligible and not on the HCV waiting list must be placed on the waiting list. If the PHA has a closed HCV waiting list, it must reopen the waiting list to accept a FUP applicant family or youth who is not currently on the PHA's HCV waiting list;

b. Determine if any families with children, or youths age 18 through 21 on its HCV waiting list are living in temporary shelters or on the street and may qualify for the Family Unification Program, and refer such applicants to the PCWA;

c. Determine if families with children, or youths age 18 through 21 referred by the PCWA are eligible for HCV assistance and place eligible families/youths on the HCV waiting list;

d. Amend the administrative plan in accordance with applicable program regulations and requirements;

e. Administer the vouchers in accordance with applicable program regulations and requirements;

f. Assure the quality of the evaluation that HUD intends to conduct on the FUP and cooperate with and provide requested data to the HUD office or HUD-approved contractor responsible for program evaluation; and

g. Comply with the actions to be taken by the PHA as specified in the MOU executed by the PHA and the PCWA. {See Section III.C.1.b.3. regarding the MOU}.

4. PCWA Responsibilities

a. Establish and implement a system to identify FUP-eligible families and FUP-eligible youths within the agency's caseload and to review referrals from the PHA;

b. Provide written certification to the PHA that a family qualifies as a FUP-eligible family, or that a youth qualifies as a FUP-eligible youth, based upon the criteria established in section 8(x) of the United States Housing Act of 1937, and this notice;

c. Commit sufficient staff resources to ensure that eligible families and youths are identified and determined eligible in a timely manner and to provide follow-up supportive services after these families and youths lease units;

d. Cooperate with the evaluation that HUD intends to conduct on the FUP, and submit a certification with the PHA's application for FUP indicating that the PCWA will agree to cooperate with and provide requested data to the HUD office or HUD-approved contractor having responsibility for program evaluation; and

e. Comply with the actions to be taken by the PCWA as specified in the MOU executed between the PCWA and the PHA. {See Section III.C.1.b.3. regarding the MOU.}

5. Environmental Impact

In accordance with 24 CFR 50.19(b)(11) and 58.35(b)(1) of the HUD regulations, tenant-based rental activities under this program are categorically excluded from the requirements of the National Environmental Policy Act of 1969 (NEPA) and are not subject to environmental review under the related laws and authorities. Activities under the homeownership option of this program are categorically excluded from NEPA requirements and excluded from other environmental requirements under 24 CFR 58.5 in accordance with 24 CFR 58.35(b)(5), but PHAs are responsible for the environmental requirements in 24 CFR 982.626(c). With regard to activities under the homeownership option for units not yet under construction at the time the families enter into the contract for sale, the additional environmental review requirements referenced in 24 CFR Sections 982.628(e), 982.631(c)(3) and 982.637(b) also apply in addition to Section 982.626(c), and the PHA shall submit all relevant environmental information to the responsible entity or to HUD to assist in the completion of those requirements.

6. HUD's Strategic Goals. HUD is committed to ensuring that programs result in the achievement of HUD's strategic mission. HCVs awarded under this NOFA support the Department's strategic goals of expanding access to and the availability of decent, affordable rental housing. For more information about HUD's Strategic Plan and Annual Performance Plan, you may visit HUD's Web site at http://www.hud.gov/offices/cfo/reports/cforept.cfm. Also, see Section V.B. of the FY 2008 General Section for information on “HUD's Strategic Goals to Implement HUD's Strategic Framework and Demonstrate Results”.

7. HUD Policy Priorities. HCVs awarded under this NOFA supports HUD's policy of providing increased homeownership and rental opportunities for low- and moderate-income persons.

C. Reporting

1. Family Report. All successful applicants including MTW agencies) must report the usage of voucher funds under this NOFA through required submissions of the form HUD-50058, Family Report. PHAs must enter the program code “FUP” on line 2n of the Family Report for families who are assisted with vouchers under this NOFA. PHAs must maintain this code on the form HUD-50058 for the duration of the family's participation in the HCV program.

2. Racial and Ethnic Data. HUD requires that funded recipients collect race and ethnic beneficiary data. HUD has adopted the Office of Management and Budget Standards for the Collection of Race and Ethnic Data. In view of these requirements, you should use form HUD-27061, Racial and Ethic Data Reporting Form (instruction for its use), found on www.HUDclips.org for this purpose.

VII. Agency Contacts

1. Technical Assistance. Before the application deadline date, you can contact the Public and Indian Housing Resource Center (PIHRC) for answers to your questions. However, staff is not permitted to assist in preparing your application. Also, following selection of applicants, but before awards are announced, staff may assist in clarifying or confirming information that is a prerequisite to the offer of an award. The PIHRC can be reached by calling 1-800-955-2232 (this is a toll free number). Persons with hearing or speech impairments may access these numbers via TTY (text telephone) by calling the Federal Information Relay Service at 1-800-877-8339 (this is a toll-free number). For technical support for registering to apply using www.grants.gov, downloading an application, or electronically submitting an application, please call Grants.gov Customer Support at 800-518-GRANTS (472687) (This is a toll-free number) or e-mail support@grants.gov.

2. Satellite Broadcast. HUD will not have a satellite broadcast on the FUP.

VIII. Other Information

A. Public Access, Documentation and Disclosure: For information, please review section VIII.G. of the FY 2008 General Section.

B. Paperwork Reduction Act: The information collection requirements contained in this document have been submitted to the Office of Management and Budget (OMB) under the Paperwork Reduction Act of 1995 (44 U.S.C. 3501-3520) and approval is pending. Once approved, HUD will publish a notice in the Federal Register notifying the public regarding the OMB approval number. In accordance with the Paperwork Reduction Act, HUD may not conduct or sponsor, and a person is not required to respond to, a collection of information unless the collection displays a currently valid OMB number.

Dated: November 10, 2008.
Paula O. Blunt,
General Deputy Assistant Secretary for Public and Indian Housing.

[FR Doc. E8-27873 Filed 11-21-08; 8:45 am]

BILLING CODE 4210-67-P